DEPARTMENT OF THE INTERIOR

Bureau of Land Management

[UTU-79203]

Utah—Notice of Invitation To Participate In Coal Exploration Program; Lodestar Energy, Inc.,

Lodestar Energy, Inc. is inviting all qualified parties to participate in its proposed exploration of certain Federal coal deposits in the following described lands in Carbon County, Utah:

T. 13S., R. 7E., SLM, UT

Sec. 19, E2SE, SWSE, SESW;

Sec. 20, W2SW;

Sec. 29, NWNW;

Sec. 30, E2, NENW.

Containing 640.00 acres.

Any party electing to participate in this exploration program must send written notice of such election to the Bureau of Land Management, Utah State Office, P.O. Box 45155, Salt Lake City, Utah 84145-0155, and to Dave Miller, Lodestar Energy, Inc., White Oak Mine, HC 35 Box 370, Helper, Utah 84526. Such written notice must be received within thirty days after publication of this notice in the Federal Register.

Any party wishing to participate in this exploration program must be qualified to hold a lease under the provisions of 43 CFR 3472.1 and must share all cost on a pro rata basis. An exploration plan submitted by Lodestar Energy, Inc., detailing the scope and timing of this exploration program, is available for public review during normal business hours in the public room of the BLM State Office, 324 South State Street, Salt Lake city, Utah, under serial number UTU-79203.

Douglas M. Koza,
Deputy State Director, Division of Natural Resources.

[FR Doc. 00-32105 Filed 12-15-00; 8:45 am]

BILLING CODE 4310-DQ-M